DEPARTMENT OF LABOR

Employment And Training Administration

[TA-W-54,368]

Multi-Form, Inc., DBA Dack Industries, Bristol, CT; Notice of Termination of Investigation

Pursuant to section 221 of the Trade Act of 1974, as amended, an investigation was initiated on February 26, 2004, in response to a petition filed by a company official on behalf of workers of Multi-Form, Inc., dba Dack Industries, Bristol, Connecticut. The petition was filed more than one year after the subject firm was closed. Consequently, further investigation in this case would serve no purpose, and the investigation has been terminated.

Signed in Washington, DC, this 27th day of February, 2004.
Elliott S. Kushner,
Certifying Officer, Division of Trade Adjustment Assistance.

[FR Doc. E4-583 Filed 3-15-04; 8:45 am]

BILLING CODE 4510-13-P